DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative and management purposes: The plat, in two sheets, constituting the entire survey record of the dependent resurvey of a portion of the subdivisional lines and a portion of the subdivision of section 16, and a metes-and-bounds survey of a portion of the Craters of the Moon National Monument in sections 15, 16, 21, and 22, in T. 2 N., R. 24 E., Boise Meridian, Idaho, was accepted July 19, 2004. The plat constituting the entire survey record of the dependent resurvey of a portion of the subdivisional lines and a metes-and-bounds survey of a portion of the Craters of the Moon National Monument in sections 2, 3, and 11, in T. 6 S., R. 28 E., Boise Meridian, Idaho, was accepted August 25, 2004.

The plat representing the dependent resurvey of a portion of the east boundary, a portion of the subdivisional lines, and the subdivision of sections 13 and 24, in T. 1 S., R. 3 W., Boise Meridian, Idaho, was accepted August 26, 2004.

These surveys were executed at the request of the Bureau of Land Management to meet certain administrative needs of the Bureau of Indian Affairs. The lands surveyed are: The plat representing the dependent resurvey of a portion of the 1892 south boundary, the 1892 east boundary, and a portion of the subdivisional lines, the subdivision of section 13, and the survey of the 1999-2003 meanders of the Blackfoot River, the North Boundary of the Fort Hall Indian Reservation, of lot 10, and a portion of the 1999-2003 median line of the Blackfoot River, all in section 13, in T. 3 S., R. 35 E., Boise Meridian, Idaho, was accepted September 30, 2004. The plat representing the dependent resurvey of a portion of the south boundary, an informative traverse of the 1875 west boundary, a portion of the subdivisional lines and 1907 meanders of the left bank of the Blackfoot River in section 7, the subdivision of sections 7, 18, 19, and 31, and the survey of the 2002-2004 meanders of the Blackfoot River and North Boundary of the Fort Hall Indian Reservation in sections 7 and 18, in T. 3 S., R. 36 E., Boise Meridian, Idaho, was accepted September 30, 2004.

Dated: October 1, 2004.
Stanley G. French,
Chief Cadastral Surveyor for Idaho.

[FR Doc. 04-22558 Filed 10-6-04; 8:45 am]

BILLING CODE 4310-GG-P